DEPARTMENT OF JUSTICE

[CPCLO Order No. 007-2015]

Privacy Act of 1974; Systems of Records; Correction

AGENCY: Office of Legal Counsel, Department of Justice.

ACTION: Notice; correction.

SUMMARY: The United States Department of Justice, Office of Legal Counsel, published a notice document in the Federal Register on January 23, 2015, terminating the systems of records entitled “Office of Legal Counsel Attorney Assignment Reports, JUSTICE/OLC-001” and “Office of Legal Counsel Central File, JUSTICE/OLC-003.” The system notice title for the “Office of Legal Counsel Central File” system should read JUSTICE/OLC-002.

FOR FURTHER INFORMATION CONTACT: Robin Moss, 202-514-8568.

Correction

In the Federal Register January 23, 2015, in FR Doc. 2015-01211, on page 3624, first column, correct the “SUMMARY” caption to read:

Pursuant to the Privacy Act of 1974 (5 U.S.C. 552a), the United States Department of Justice, Office of Legal Counsel, is terminating the systems of records entitled “Office of Legal Counsel Attorney Assignment Reports, JUSTICE/OLC-001” and “Office of Legal Counsel Central File, JUSTICE/OLC-002.”

Dated: April 2, 2015.
Kristi Lane Scott,
Deputy Director, Office of Privacy and Civil Liberties, United States Department of Justice.

[FR Doc. 2015-10109 Filed 4-29-15; 8:45 am]

BILLING CODE 4410-23-P